DEPARTMENT OF HEALTH AND HUMAN SERVICES

Centers for Disease Control and Prevention

Study Team for the Los Alamos Historical Document Retrieval and Assessment Project

The Centers for Disease Control and Prevention (CDC) and the Agency for Toxic Substances and Disease Registry (ATSDR) announce the following meeting: Cancelled.

Name: Public Meeting of the Study Team for the Los Alamos Historical Document Retrieval and Assessment Project.

Time and Date: 5 p.m.-7 p.m., September 25, 2001.

Place: Radisson Santa Fe Hotel (Board Room), 750 N. St. Francis Drive, Santa Fe, New Mexico 87501, telephone 505-992-5800.

Status: Meeting Cancelled. Published in the Federal Register: August 31, 2001 (Volume 66, Number 170) [Notices] [Page 46014] From the Federal Register Online via GPO Access (wais.access.gpo.gov) [DOCID: fr31au01-57]

Contact Persons for Additional Information: Paul G. Renard, Radiation Studies Branch, Division of Environmental Hazards and Health Effects, NCEH, CDC, Building 6, Room T-027, Executive Park Drive (E-39), Atlanta, GA 30329, telephone 404-498-1817, fax 404-498-1811.

The Director, Management Analysis and Services Office, has been delegated the authority to sign Federal Register notices pertaining to announcements of meetings and other committee management activities for both CDC and ATSDR.

Dated: September 18, 2001.
John Burckhardt,
Acting Director, Management Analysis and Services Office, Centers for Disease Control and Prevention.

[FR Doc. 01-23748 Filed 9-21-01; 8:45 am]

BILLING CODE 4163-18-P